DEPARTMENT OF AGRICULTURE

Commodity Credit Corporation

Seniors Farmers' Market Nutrition Pilot Program: Opportunity To Submit Grant Applications

AGENCY: Commodity Credit Corporation, Agriculture.

ACTION: Notice of opportunity to submit grant applications.

SUMMARY: USDA's Commodity Credit Corporation will be making grants to States and Indian tribal governments. The grants must be used to provide coupons to low-income seniors that they may exchange for eligible foods at farmers' markets, roadside stands, and community supported agriculture programs. Eligible foods are fresh, nutritious, unprepared, locally grown fruits, vegetables, and herbs. Ten million dollars are available for grants for the 2001 farmers' market season.

DATE: Applications must be received on or before December 1, 2000.

ADDRESSES: Applications must be sent to Diane Kriviski, Grants Management Specialist, Food and Nutrition Service, USDA, Grants Management Division, 3101 Park Center Drive, Room 738, Alexandria, Virginia 22302.

FOR FURTHER INFORMATION CONTACT: Diane Kriviski at (703) 305-2049.

SUPPLEMENTARY INFORMATION:

I. What Is the Seniors Farmers' Market Nutrition Program?

A. Background

The Seniors Farmers' Market Nutrition Pilot Program is a new program established by USDA's Commodity Credit Corporation (CCC). Under the program, CCC will make grants to States and Indian tribal governments. The grants must be used to provide low-income seniors coupons they may exchange for eligible foods at farmers' markets, roadside stands, and community supported agriculture programs. Eligible foods are fresh, nutritious, unprepared, locally grown fruits, vegetables, and herbs. The grant funds may be used only to support the costs of the foods that are provided under the program; no administrative funding is available. USDA's Food and Nutrition Service (FNS) will assist CCC in evaluating the grant applications.

B. Purpose

The purposes of the Seniors Farmers' Market Nutrition Pilot Program are to (1) provide resources in the form of fresh, nutritious, unprepared, locally grown fruits, vegetables, and herbs from farmers' markets, roadside stands and community supported agriculture programs to low-income seniors, (2) increase the domestic consumption of agricultural commodities by expanding or aiding in the expansion of domestic farmers' markets, roadside stands, and community supported agriculture programs, and (3) develop or aid in the development of new and additional farmers' markets, roadside stands, and community supported agriculture programs.

C. Authority

Funds are being made available for this pilot program pursuant to the CCC Charter Act. Section 5(e) of the Act (15 U.S.C. 714c(e)) authorizes CCC to use its resources to “Increase the domestic consumption of agricultural commodities by expanding or aiding in the expansion of domestic markets or by developing or aiding in the development of new and additional markets, marketing facilities, and uses for such commodities.”

II. Who Is Eligible for These Grants?

All States and federally recognized Indian tribal governments are eligible for these grants. Indian tribal governments may apply directly or as part of a State application. Each State may submit only one application on behalf of all interested State agencies, local governments, and non-profit organizations in that State, and any Indian tribal governments that want to participate through the State. Each applicant State must designate a lead State agency. However, the lead State agency may make subgrants to other State agencies, Indian tribal governments, local governments, and non-profit organizations. Also, Indian tribal governments may make subgrants to local governments and non-profit organizations in the areas they serve. Interested State agencies, local governments, and non-profit organizations should contact their Governor's office or Indian tribal governments to work together on an application. States and Indian tribal governments that choose to subgrant all or part of the pilot program funds are responsible for ensuring that the funds are spent in accordance with requirements for the pilot program.

III. How Much Is Available for the Grants and When Must the Funds Be Spent?

Ten million dollars are available for the grants. Grant funds may be obligated beginning with the grant award (expected in early January 2001) through December 31, 2001. The grants will be awarded through a competitive process. We may adjust the amounts requested in the grant applications to ensure that the grants we award are funded at appropriate levels. The submission of a grant application does not guarantee funding.

All program activities under the grants must be completed by December 31, 2001. The pilot program will be evaluated during and after the grant period. If it is successful, we expect to continue the program in the 2002 farmers' market season. The evaluation will also help us decide whether we need to make any changes in order to improve the program. You must cooperate with the evaluation by providing requested data and access to your records.

IV. What Are the Reporting Requirements for Grantees?

You will be required to submit quarterly financial status reports, quarterly progress reports, and a final report. The quarterly financial and progress reports are due April 30, July 31, and October 31, 2001. The final report is due March 31, 2002. The progress reports and the final report must indicate the number of outlets authorized to receive coupons (i.e. farmers, farmers' markets, roadside stands, and/or community supported agriculture programs) by category and the number of recipients who have been issued coupons.

V. How Do I Submit a Grant Application?

Your grant application must be received by FNS on or before December 1, 2000. Applications will be accepted until 5 p.m. on December 1, 2000. You must meet this deadline by delivering the application or by mailing it sufficiently in advance of the deadline to ensure its timely receipt. We will return late applications without consideration in the competition. We will not consider additions or revisions to applications once they are received.

You must submit an original and two copies of your application. The original must bear the original signature of your authorized representative. The original must be ready for copying, that is single-sided, unstapled, unbound, and on 8½” × 11” paper. Your original and copies must be on white paper. We reserve the right to reject any application containing a grant proposal over 25 pages in length. We will not accept applications sent by datafax and/or e-mail.

Your application must be delivered or mailed to: Diane Kriviski, Grants Management Specialist, Food and Nutrition Service, USDA, Grants Management Division, 3101 Park Center Drive, Room 738, Alexandria, Virginia 22302.

Call Diane Kriviski at (703) 305-2049 with any questions about the grant application. We will respond by telephone to questions seeking clarification, whether technical in nature or relating to the application procedures.

VI. What Is the Meaning of the Terms Used in This Request for Grant Applications?

The following definitions and conditions apply to this pilot program:

Community supported agriculture program means a program under which a farmer grows food for a group of shareholders (or subscribers) who pledge to buy a portion of the farmer's crop that season.

Coupon means a coupon, voucher, or other negotiable financial instrument by which benefits under the pilot program are transferred to pilot program recipients. Coupons must contain a date by which the recipient must use the coupon, a date by which the farmer must submit the coupon for payment, a unique and sequential serial number, a denomination, and an identifier for the redeeming farmer. The denominations of the coupons must be sufficiently small to ensure that recipient can redeem coupons at or near their full value.

Eligible foods means fresh, nutritious, unprepared, locally grown fruits, vegetables, and herbs for human consumption. Eligible foods may not be processed or prepared beyond their natural state except for usual harvesting and cleaning processes. Honey, maple syrup, cider, and nuts are examples of foods that are not eligible for purposes of the pilot program.

Farmer means an individual who sells produce at farmers' markets, roadside stands, and community supported agriculture programs, but does not include an individual who exclusively sells produce grown by someone else, such as wholesale distributors.

Farmers' market means an association of local farmers who assemble at a defined location for the purpose of selling their produce directly to consumers.

Federally recognized Indian tribal government means the same as that term is defined in 7 CFR 3017.3.

Locally grown means grown within the borders of the State that your project serves. If you choose, locally grown may also mean grown in areas of States adjacent to the State your project serves, as long as those areas are part of the United States.

Recipient means a person who meets the age and income eligibility limits for your project and to whom you have issued coupons.

Roadside stand means a location at which a single, individual farmer sells his/her produce directly to consumers.

State means the 50 States of the United States and the District of Columbia.

VII. What Do I Have To Include in My Grant Proposal?

Your grant application must include a grant proposal that describes in detail your plan to operate a project under the Seniors Farmers' Market Nutrition Pilot Program. At a minimum, your grant proposal must address the following areas in sufficient detail to demonstrate your ability to meet the requirements of the pilot program and must be organized as follows:

1. General Administration Requirements

a. Purpose. Describe how your project will achieve the purposes (stated above) of the program. Include:

• Proposed period of operation.

• Proposed age and income eligibility limits for recipients. If you propose to serve people under the age of 60 or with household incomes above 185% of the poverty income guidelines (currently $20,813 for a two-person household), include a justification for your eligibility limit.

• Number of recipients you estimate you will serve during the grant period.

• Frequency of coupon issuance, value of coupons at each issuance to a recipient, and maximum total amount a recipient will be issued during the grant period.

• Service area.

Describe any current or prior experience you have with farmers' market projects or programs. If you operated a farmers' market program for seniors during the 2000 farmers' market season, indicate the amount you spent for this program and include an assurance that you will maintain this level of funding (in addition to any pilot program funds) during the grant period.

b. Administrative capacity. Describe your administrative capacity to operate the project. Because administrative funding will not be provided under the grant, describe how you and any participating organizations will pay the administrative costs of the program. Identify the organization within the lead State agency or Indian tribal government and key staff who will direct the work of the your project and ensure all requirements of the grant agreement are met.

c. Financial management. Describe your financial management system, including how the system will provide accurate, current and complete disclosure of the financial status of the program and quarterly financial status reports.

d. Record keeping. Describe your record keeping system, including your system for maintaining separate records for funds received under this grant and records pertaining to financial operations, coupon issuance and redemption, market authorization, and participation.

2. Funding Request

Indicate the amount of funds you are requesting and how you determined that amount.

3. Recipient Certification and Benefit Delivery

a. Recipient certification and coupon issuance. Describe how you will determine the eligibility of recipients and issue coupons to recipients.

b. Coupon redemption system. Describe your coupon redemption system, including how you will ensure that coupons are redeemed only by authorized farmers, farmers' markets, roadside stands, and/or community supported agriculture programs and only for eligible foods, how you will ensure that no cash change is issued for purchases that are in an amount less than the value of the coupon(s), and how you will ensure that no State or local taxes will be collected on purchases of food with coupons.

c. Market management system. Describe how you will manage your markets, including your proposed criteria and procedures for authorizing farmers, farmers' markets, roadside stands, and/or community supported agriculture programs.

d. Number of markets. Indicate in each category the number of farmers, farmers' markets, roadside stands, and/or community supported agriculture programs you estimate you will authorize.

e. Eligible foods. List all eligible foods.

f. Coupons. Describe your proposed coupons, including the denominations.

4. Nutrition Education

Describe any nutrition education you will provide recipients.

VIII. What Do I Have To Include in My Application Package?

Your grant application must demonstrate your willingness and ability to comply with the requirements described in this notice and any additional standards and procedures that you specify in your grant application and are approved by CCC. If your application does not adequately address these requirements, it will be considered nonresponsive and will not receive further consideration.

Your grant application must include the following items. You may get copies of these forms by calling Diane Kriviski at (703) 305-2049.

1. Grant proposal, as described in Section VII of this notice.

2. Application for Federal Assistance, SF-424—This is a required standard form for applications for Federal assistance.

(This form is available at www.whitehouse.gov/OMB/grants/#forms)

3. Budget Information—Non-Construction Programs, SF-424A—Budget estimates show how the grant money will be spent. Approved grant funds must be obligated and expended in accordance with the amounts indicated on the Budget Information form, SF-424A, and must reflect any adjustments made in the grant approval notification. (This form is available at www.whitehouse.gov/OMB/grants/#forms)

4. Assurances/Certifications—Applicants must provide the following forms:

• Assurances—Non-Construction Programs, SF-424B (This form is available at www.whitehouse.gov/OMB/grants/#forms).

• Certification Regarding Debarment, Suspension, and Other Responsibility Matters—Primary Covered Transactions, AD-1047.

• Certification Regarding Drug Free Workplace Requirements—Alternative II, AD-1050.

• Certification Regarding Lobbying.

IX. What Are the Terms and Conditions of the Grant?

In addition to the requirements described in this notice, you must agree to comply with the USDA regulations and Office and Management and Budget (OMB) circulars listed below. Copies of these documents are available from FNS upon request.

• 7 CFR Part 3016: “Uniform Administrative Requirements for Grants and Cooperative Agreements to State and Local Governments” other than Entitlement Programs (Reference OMB Circular A-102 Common Rule).

• 7 CFR Part 3017: Subparts A-E “Government-wide Debarment and Suspension (Non-procurement)”.

• 7 CFR Part 3017: Subpart F “Government-wide Requirements for Drug-free Workplace (Grants)”.

• 7 CFR Part 3018: “New Restrictions on Lobbying”.

X. How Will My Application Be Evaluated?

A. Panel Review

All grant applications that meet the deadline for submission will be screened for completeness and conformity to the requirements of this request for grant applications. A panel will determine the technical merit of each grant application and provide a numerical score.

B. Evaluation Criteria

Project Implementation 35 Total Points

Project implementation goals and objectives are clearly specified and linked to the requirements and purposes of the Seniors Farmers' Market Nutrition Pilot Program.—15 points

Project implementation tasks follow directly from the project goals and objectives and the requirements and purposes of the Seniors Farmers' Market Nutrition Pilot Program and the necessity of the tasks is adequately explained.—15 points

The roles and duties of all key staff are thoroughly and clearly explained.—5 points

Soundness of Project Design 30 Total Points

The grant proposal describes the oversight necessary to ensure high quality products, services, or outcomes and to keep the project on time and within budget, including a clearly defined chain of command, and appropriate plans for managing outside personnel.—15 points

The organization of the project allows sufficient time for proposed tasks, and clearly discusses and demonstrates that effective communication will exist among staff. Proposals should include a project timeline and organization chart showing key activities and dates. The timeline provides adequate, realistic periods to complete the proposed activities/tasks. Letters have been submitted to document any resources available to the project from other sources.—15 points

Budget Appropriateness and Efficiency 25 Total Points

The proposed budget request is adequate to support the project and both Federal and non-Federal resources are provided.—10 points

Budget justifications are provided, including descriptions of how categorical costs were derived, discussions of the necessity, reasonableness, and allocability of proposed costs, and links between expenditures and specific activities/tasks.—10 points

The level of Federal support requested is economical and reasonable in relation to the proposed scope and effort of the project.—5 points

Presentation 10 Total Points

The grant proposal is well presented, well organized, complete, clear, and succinct. Proposals should be relatively brief and concise. The maximum acceptable proposal length is 25 pages.

Bonus Points 6 Total Points

Up to six additional points will be awarded to grant proposals that include a nutrition education component. These additional points will be added to the panel's total score, so that the maximum total points a proposal could receive is a total of 106 points.

C. Grant Awards

After the panel evaluates and scores the grant applications, they will be ranked by score, starting with the highest score. In general, CCC will award the grants in rank order until the total available funds are committed. However, the selecting official may take into account CCC priorities in addition to the scores. Also, if the selecting official determines that some or all of the applications lack technical merit, CCC may decide to award no grants, or less than the total amount of funds set aside for this purpose. Finally, CCC reserves the right to fund successful applications at an amount less than requested if it is judged that the application can be implemented with less, or if Federal funding is not sufficient to fully fund all successful applications. CCC also reserves the right to deny an otherwise worthwhile application if the success of the application is dependent upon an amount of funding that is not available.

We will notify grant applicants of awards as soon as possible after the applications have been reviewed. We expect to complete the review by early January 2001. CCC will provide funding for approved grant applications upon receipt of a properly executed grant agreement and subject to available funding.

Dated: October 30, 2000.
August Schumacher, Jr.,
President, Commodity Credit Corporation.

[FR Doc. 00-28201 Filed 10-30-00; 4:41 pm]

BILLING CODE 3410-05-P